DEPARTMENT OF HEALTH AND HUMAN SERVICES

Food and Drug Administration

21 CFR Parts 131, 133, 135, and 184

[Docket No. FDA-2025-N-1225]

RIN 0910-AJ11

Proposal To Revoke 18 Standards of Identity for Dairy Products

AGENCY: Food and Drug Administration, HHS.

ACTION: Proposed rule.

SUMMARY: The Food and Drug Administration (FDA or we) is proposing to revoke 18 standards of identity for dairy products. FDA is taking this action as we tentatively conclude that these standards are no longer necessary to promote honesty and fair dealing in the interest of consumers. This proposed action would reduce redundant regulatory requirements.

DATES: Either electronic or written comments on the proposed rule must be submitted by September 15, 2025. FDA does not intend to extend the comment period.

ADDRESSES: You may submit comments as follows. Please note that late, untimely filed comments will not be considered. The https://www.regulations.gov electronic filing system will accept comments until 11:59 p.m. Eastern Time at the end of September 15, 2025. Comments received by mail/hand delivery/courier (for written/paper submissions) will be considered timely if they are received on or before that date.

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. [FDA-2025-N-1225] for “Proposal to Revoke 18 Standards of Identity for Dairy Products.” Received comments, those filed in a timely manner (see ADDRESSES), will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” We will review this copy, including the claimed confidential information, in our consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents, the plain language summary of the proposed rule of not more than 100 words as required by the “Providing Accountability Through Transparency Act,” or the electronic and written/paper comments received, go to https://www.regulations.gov and insert the docket number, found in brackets in the heading of this document, into the “Search” box and follow the prompts and/or go to the Dockets Management Staff, 5630 Fishers Lane, Rm. 1061, Rockville, MD 20852, 240-402-7500.

FOR FURTHER INFORMATION CONTACT: Jessie Zhao, Office of Nutrition and Food Labeling, Human Foods Program, Food and Drug Administration, 5001 Campus Dr., College Park, MD 20740, 240-402-2371; or Meadow Platt, Office of Policy, Regulations, and Information, Human Foods Program, Food and Drug Administration, 5001 Campus Dr., College Park, MD 20740, 240-402-2378.

SUPPLEMENTARY INFORMATION:

Table of Contents

I. Executive Summary

A. Purpose of the Proposed Rule

B. Summary of the Major Provisions of the Proposed Rule

C. Legal Authority

D. Costs and Benefits

II. Background

III. Description of the Proposed Rule

IV. Proposed Effective Date

V. Preliminary Analysis of Economic Impacts and Initial Regulatory Flexibility Analysis

A. Foods With Little to No Market

B. Foods Covered by Redundant Food Standard Regulations

VI. Analysis of Environmental Impact

VII. Paperwork Reduction Act of 1995

VIII. Federalism

IX. Consultation and Coordination With Indian Tribal Governments

I. Executive Summary

A. Purpose of the Proposed Rule

This action proposes to remove 18 dairy standards that FDA tentatively concludes are no longer necessary to promote honesty and fair dealing in the interest of consumers.

B. Summary of the Major Provisions of the Proposed Rule

This action proposes to remove the following food standard regulations:

Part 131—Milk and Cream

• 131.111 Acidified milk

• 131.162 Acidified sour cream

Part 133—Cheeses and Related Cheese Products

• 133.111 Caciocavallo siciliano cheese

• 133.116 Low sodium cheddar cheese

• 133.121 Low sodium colby cheese

• 133.125 Cold-pack cheese food with fruits, vegetables, or meats

• 133.127 Cook cheese, koch kaese

• 133.134 Cream cheese with other foods

• 133.140 Gammelost cheese

• 133.154 High-moisture jack cheese

• 133.164 Nuworld cheese

• 133.168 Pasteurized blended cheese with fruits, vegetables, or meats

• 133.170 Pasteurized process cheese with fruits, vegetables, or meats

• 133.174 Pasteurized process cheese food with fruits, vegetables, or meats

• 133.185 Samsoe cheese

• 133.186 Sap sago cheese

Part 135: Frozen Desserts

• 135.115 Goat's Milk Ice Cream

• 135.130 Mellorine

C. Legal Authority

We are issuing this proposed rule based on our authority under section 401 of the Federal Food, Drug, and Cosmetic Act (FD&C Act) (21 U.S.C. 341), which directs the Secretary of Health and Human Services (Secretary) to issue regulations fixing and establishing for any food a reasonable definition and standard of identity, quality, or fill of container whenever in the judgment of the Secretary such action will promote honesty and fair dealing in the interest of consumers. Under section 701(e) of the FD&C Act (21 U.S.C. 371(e)), any action for the amendment or repeal of any definition and standard of identity under section 401 of the FD&C Act for any dairy product, such as cheeses or frozen dairy products, must be begun by a proposal made either by the Secretary on his own initiative or by petition of any interested persons, showing reasonable grounds therefor, filed with the Secretary.

D. Costs and Benefits

We are publishing this proposed rule under the formal rulemaking process. Executive Order 12866 does not require us to analyze the costs and benefits of proposed rules that we publish under this rulemaking process (see Executive Order 12866, “Regulatory Planning and Review” (58 FR 51735, October 4, 1993)). However, we have examined the economic implications of this proposed rulemaking on small businesses. The Regulatory Flexibility Act (5 U.S.C. 601-612) requires us to analyze regulatory options that would minimize any significant impact of a rule on small entities. Because the proposed rule would create cost savings or negligible costs for small entities, we propose to certify that the proposed rule will not have a significant economic impact on a substantial number of small entities.

II. Background

President Trump has directed the heads of executive departments and agencies to eliminate unnecessary and burdensome regulations (Executive Order 14192, “Unleashing Prosperity Through Deregulation” (90 FR 9065, February 6, 2025; signed January 31, 2025)). Independently, Secretary Kennedy has expressed support for deregulatory initiatives across all HHS components to focus on the core mission to Make America Healthy Again (see Request for Information (RFI): Ensuring Lawful Regulation and Unleashing Innovation to Make America Healthy Again (90 FR 20478, May 14, 2025)). Revoking these 18 standards of identity for dairy products is consistent with these directives. It is also consistent with section 6 of Executive Order 13563, “Improving Regulation and Regulatory Review” (76 FR 3821, January 18, 2011), which requires agencies to periodically conduct retrospective analyses of existing regulations to identify those “that might be outmoded, ineffective, insufficient, or excessively burdensome, and to modify, streamline, expand, or repeal them” accordingly. In line with the President's deregulatory agenda and Secretary's direction, we have initiated a review of food standards to assess which standards are outdated or unnecessary and are good candidates for revocation. This rulemaking is one of several that FDA is planning to streamline its food standard regulations. This rulemaking addresses dairy standards of identity. Throughout this document we refer to standards of identity for dairy products as “standards” or “food standards.”

III. Description of the Proposed Rule

FDA issued most food standards regulations before 1980. FDA's initial approach to food standards during the 1940s to 1960s was oriented to maintaining the value of food and preventing economic adulteration. In the absence of premarket safety standards and labeling for ingredients, many early food standards have been described as “recipe standards,” prescribing, under a common or usual name for the food, the ingredients that must and could be used, sometimes with a manufacturing process, and many provided very limited flexibility (60 FR 67492, 67494, December 29, 1995). This approach both addressed economic adulteration or debasement and ensured that ingredients in, and the production processes used for, standardized foods were ones that FDA regarded as safe (id.).

Since 1938, the FD&C Act has been amended numerous times, including amendments related to ingredient safety, ingredient labeling (including allergen labeling), food packaging, safe food production and manufacturing practices, and nutrition labeling information and claims. The standards in this proposed rule predate many of these amendments. The FD&C Act's amendments, along with developments and changes in nutrition, food science, agriculture, and production/manufacturing, mean these food standards may be unnecessary now. For example, the food industry may have moved away from the standardized food to make different, nonstandardized foods. A standard may be an inappropriate impediment to adopting new technologies or food reformulation that would make a food easier to produce or give consumers more choices, including healthier choices that support the Secretary's Make America Healthy Again priorities. Further, some food standards may be duplicative in that they provide for additional ingredients to be added to another standardized food. Other times, substantial time has passed since the standard was established or last amended and the standard appears to have less significance. In all these situations, the utility of a standard may be quite diminished and revocation of a food standard may be appropriate as we would not expect that the standard is necessary to promote honesty and fair dealing in the interest of consumers.

We also note that the history of food standards teaches us that consumer preferences and the food industry sometimes change faster than FDA can issue or update regulations, and we should therefore use food standards judiciously. When a food standard no longer promotes honesty or fair dealing in the interest of consumers, FDA may consider whether it is more appropriate to revoke the standard, rather than to amend the standard or replace it with a new one. In those instances, other provisions of the FD&C Act and its implementing regulations for the food would still apply and may permit more flexibility and innovation. FDA believes that food standards are most appropriate when, for example, they protect against instances of economic adulteration or debasement or standardize foods that are likely targets thereof, standardize foods that are important staples of the U.S. diet (either in their inherent nutrient profile or volume), set enrichment or fortification criteria, or standardize foods that are particularly significant in domestic programs or international trade.

Considering the history and appropriateness of food standards along with the current FD&C Act and its implementing regulations, we have identified some initial categories of standards that describe situations when we may consider revoking a food standard. In this proposed rule, we identify three categories of dairy food standards that we tentatively conclude are no longer necessary “to promote honesty and fair dealing in the interest of consumers” (21 U.S.C. 341). As we continue our review of all the food standard regulations, we may identify additional categories for revocation.

Category 1: Standardized Foods With Little to No Market in the U.S.

These are foods for which FDA's initial research (described below) shows little to no evidence of a market in the U.S. Our tentative conclusion is that maintaining a standard for a food that has little to no U.S. market is not necessary to promote honesty and fair dealing in the interest of consumers.

Category 2: Standardized Food That Would Be Covered by 21 CFR 130.10 in the Absence of Its Standard of Identity

Section 130.10 is a cross-cutting standard that covers foods that deviate from a standard of identity due to compliance with an expressed nutrient content claim defined by FDA regulation (21 CFR 130.10(a)). There are several expressed nutrient content claims defined under FDA's regulations in 21 CFR 101.54 through 101.62. These regulations define claims such as “fat free,” “low sodium,” and “reduced calorie” and can be met by reducing nutrients such as fat, salt, and sugar in foods. Manufacturers may wish to reduce nutrients in standardized foods consistent with these claims. In some cases, an additional specific food standard exists to permit reductions in fat, salt, or sugar. These standards tend to predate the establishment of 21 CFR 130.10. Before 21 CFR 130.10 was issued, specific standards that allowed these kinds of products were useful; now, however, we tentatively conclude that, in some instances, they may be redundant. We are not currently aware of any evidence suggesting that separate standards would, in this situation, remain necessary to promote honesty and fair dealing in the interest of consumers.

Category 3: Standardized Foods That Include the Name of Another Standardized Food in Their Names

There are some standardized foods that are similar to other standardized foods except for the addition of kinds of certain ingredients (e.g., fruits, vegetables, or meats), which may be accompanied by other very minor modifications to reflect changes resulting from the addition of these ingredients. In such cases, we propose to revoke the standards for the foods with additional ingredients so that they are nonstandardized foods. We note that, after revocation, the nonstandardized food may have a name that includes the common or usual name of the standardized food, along with any additions that may be needed to the name to reflect the new ingredient(s) (see 21 CFR 101.3). As we have previously stated, a nonstandardized food may be labeled with a name that includes the common or usual name of a standardized food, provided that the name of the nonstandardized food is not misleading. The goal of the proposed revocation is to avoid redundant standards that are no longer necessary to promote honesty and fair dealing in the interest of consumers.

FDA has performed an initial review of parts 131, 133, and 135, which cover standards for milk and cream, cheeses and related cheese products, and frozen desserts, respectively. FDA conducted research to determine the market status of each standardized food listed in these parts to assess likely sales, both in person and online. We searched a commercial database of retail food products to evaluate if the identified food standards are currently on the market. The advanced search tool was used to limit results with the following parameters: product name, food product category, and region where sold (U.S.). If necessary for the product, we also narrowed the search by food ingredients, food characteristics, and year. We also considered recent sales data using the information from an additional market research company. Because these databases do not capture online sales, we performed internet and online shopping searches using product names. The internet searches helped with assessing the product's name and whether the statement of identity (see 21 CFR 101.3(b)), generally appears sufficient. As explained above, FDA research was primarily focused on market status. Our review of foods' names was very broad and should not be regarded as a compliance or enforcement review.

Based on the considerations and our market research, we have tentatively concluded that 18 dairy product standards should be revoked because they fall into one or more of the categories described above and are not necessary to promote honesty and fair dealing in the interest of consumers. The 18 dairy products are listed in Table 1 along with the applicable considerations for revocation described above.

Table 1—Amendments to Food Standards for Dairy Products
[Parts 131, 133, 135]
CFR section | Title | Reason(s) for revocation
131.111 | Acidified milk | Category 1.
131.162 | Acidified sour cream | Category 1.
133.111 | Caciocavallo siciliano cheese | Category 1.
133.116 | Low sodium cheddar cheese | Categories 1, 2.
133.121 | Low sodium colby cheese | Categories 1, 2.
133.125 | Cold-pack cheese food with fruits, vegetables, or meats | Category 3.
133.127 | Cook cheese, koch kaese | Category 1.
133.134 | Cream cheese with other foods | Category 3.
133.140 | Gammelost cheese | Category 1.
133.154 | High-moisture jack cheese | Category 1.
133.164 | Nuworld cheese | Category 1.
133.168 | Pasteurized blended cheese with fruits, vegetables, or meats | Category 3.
133.170 | Pasteurized process cheese with fruits, vegetables, or meats | Category 3.
133.174 | Pasteurized process cheese food with fruits, vegetables, or meats | Category 3.
133.185 | Samsoe cheese | Category 1.
133.186 | Sap sago cheese | Category 1.
135.115 | Goat's milk ice cream | Category 1.
135.130 | Mellorine | Category 1.

Additionally, because we are proposing to remove § 133.111, Caciocavallo siciliano cheese, we are proposing to remove the reference to § 133.111 in § 184.1157(c)(2), which pertains to the use of benzoyl peroxide as an ingredient in specific foods.

IV. Proposed Effective Date

FDA proposes to make these revocations effective 60 days after publication of a final rule.

V. Preliminary Analysis of Economic Impacts and Initial Regulatory Flexibility Analysis

We are publishing this proposed rule under the formal rulemaking process. Executive Order 12866 does not require us to analyze the costs and benefits of proposed rules that we publish under this rulemaking process.

Executive Order 14192 requires that any new incremental costs associated with significant new regulations “shall, to the extent permitted by law, be offset by the elimination of existing costs associated with at least ten prior regulations.” This proposed rule, if finalized as proposed, is expected to be deregulatory under Executive Order 14192.

The Regulatory Flexibility Act requires us to analyze regulatory options that would minimize any significant impact of a rule on small entities. Because the proposed rule would create cost savings or negligible costs for small entities, we propose to certify that the proposed rule will not have a significant economic impact on a substantial number of small entities. This analysis, as well as other sections in this document, serves as the Initial Regulatory Flexibility Analysis, as required under the Regulatory Flexibility Act.

The Unfunded Mandates Reform Act of 1995 (Pub. L. 104-4; section 202(a)) requires us to prepare a written statement, which includes estimates of anticipated impacts, before proposing “any rule that includes any Federal mandate that may result in the expenditure by State, local, and tribal governments, in the aggregate, or by the private sector, of $100,000,000 or more (adjusted annually for inflation) in any 1 year.” The current threshold after adjustment for inflation is $187 million, using the most current (2024) Implicit Price Deflator for the Gross Domestic Product. This proposed rule would not result in an expenditure in any year that meets or exceeds this amount.

A. Foods With Little to No Market

As described above, FDA has reviewed available market data to identify food standards that cover few marketed products. We rely on point-of-sale data from Circana to identify food products with little to no market at multi-outlet and convenience retailers from 2019 through 2024.¹ Circana defines multi-outlet and convenience retailers as brick-and-mortar food, drug, mass-market (including Walmart), club (excluding Costco), dollar, military, and convenience stores. We obtained annual data on dollar sales and unit sales from relevant products at the Universal Product Code (UPC) level.

¹ Food and Drug Administration custom research definitions based on Circana, LLC (fka Information Resources Inc.) data 2019 to 2024, dollar sales, unit sales, product name, and descriptive label variables, Total Multi Outlet with Convenience.

To identify standardized food products, we used the following methods:

1. We identified the standards of identity for each food based on the text of the food standard in 21 CFR part 131, 133, or 135.

2. We manually reviewed the Circana data to identify descriptive variables that determine whether a product is subject to the food standard.

3. We developed search terms for each food standard to systematically identify relevant products.

4. We reviewed the search results for accuracy and quality control.

We also searched Mintel Global New Products Database (GNPD), a commercial database of retail food products, to evaluate if the identified food standards are currently on the market.² The advanced search tool was used to limit results with the following parameters: product name, food product category, and region where sold (U.S.). If necessary for the product, we also narrowed the search by food ingredients, food characteristics, and year.

² See Mintel Global New Products Database (GNPD), http://www.mintel.com/global-new-products-database, downloaded on May 2025.

The Circana and Mintel data do not cover all distribution channels for food products. Notably, the data does not include online sales and sales from specialty retailers. To supplement our analysis of the Circana and Mintel data, we also conducted an internet search to identify products for sale online or sold exclusively in specialty stores. We only concluded that a food standard had little to no market if we found few products through both our market data analysis and our internet search.

Through this analysis, FDA has concluded that little to no market exists for foods under the following food standards:

1. Acidified Milk,

2. Acidified sour cream,

3. Caciocavallo siliciano cheese,

4. Low sodium cheddar cheese,

5. Low sodium colby cheese,

6. Cook cheese, koch kaese,

7. Gammelost cheese,

8. High-moisture jack cheese,

9. Nuworld cheese,

10. Samsoe cheese,

11. Sap sago cheese,

12. Goat's milk ice cream, and

13. Mellorine.

Because few products covered by these food standards are currently marketed, revoking these 13 food standards would affect few small businesses. Any small businesses that market one of the covered products may realize benefits of additional flexibility in product development. FDA requests comment on any benefits or costs associated with revoking these 13 food standards.

B. Foods Covered by Redundant Food Standard Regulations

Some food products are covered by multiple food standards or could easily be marketed as a nonstandardized food using the name of a standardized food in the nonstandardized food's full name. Food products covered by redundant standards include:

1. Cold-pack cheese food with fruits, vegetables, or meats,

2. Cream cheese with other foods,

3. Pasteurized blended cheese with fruits, vegetables, or meats,

4. Pasteurized process cheese with fruits, vegetables, or meats, and

5. Pasteurized process cheese food with fruits, vegetables, or meats.

This rule would affect cheese manufacturing firms in the North American Industry Classification System (NAICS) code 311513. The Small Business Administration (SBA) defines a small business in NAICS 311513 as a business with 1,250 or fewer employees.³ The U.S. Census Statistics of U.S. Businesses data from 2022 lists industries by establishment size.⁴ The largest establishment size category is 500+ employees for NAICS 311513, which is lower than the SBA cutoff. If we assume all 35 firms in that category are not small, then the remaining 375 firms, or around 91 percent (=375/410), of firms would be classified as small. If those 35 firms are small businesses, then 100 percent of manufacturers in NAICS 311513 are small. We do not expect all manufacturers in NAICS 311513 are making foods covered by the five food standards listed above. We summarize the number and estimated revenues for small firms potentially affected by this proposed rule in Table 2.

³ https://www.sba.gov/document/support-table-size-standards.

⁴ https://www.census.gov/data/tables/2022/econ/susb/2022-susb-annual.html.

Table 2—Number, Percent, and Estimated Revenues for Firms by Employee Size Category
[NAICS 311513 Cheese Manufacturing]
Employees | Number of firms | Percent of firms (%) | Estimated revenues ($ millions)
<5 | 106 | 25.9 | $150.2
5 to 9 | 58 | 14.1 | 102.5
10 to 19 | 61 | 14.9 | 321.6
20 to 99 | 95 | 23.2 | 2,311.6
100 to 499 | 55 | 13.4 | 9,685.3
500+ | 35 | 8.5 | 54,987.3
Total | 410 | 100.0 | 67,558.5

These five redundant standards may create confusion for manufacturers or slow innovation. To the extent that this creates costs, revoking these food standards would generate cost savings for manufacturers of such products. FDA requests comment on any benefits or costs associated with revoking these five food standards.

VI. Analysis of Environmental Impact

We have determined under 21 CFR 25.32(a) that this proposed action is of a type that does not individually or cumulatively have a significant effect on the human environment. Therefore, neither an environmental assessment nor an environmental impact statement is required.

VII. Paperwork Reduction Act of 1995

FDA tentatively concludes that this proposed rule contains no collection of information. Therefore, clearance by the Office of Management and Budget under the Paperwork Reduction Act of 1995 (44 U.S.C. 3501-3520) is not required.

VIII. Federalism

We have analyzed this proposed rule in accordance with the principles set forth in Executive Order 13132, “Federalism” (64 FR 43255, August 10, 1999). We have determined that this proposed rule does not contain policies that have substantial direct effects on the States, on the relationship between the National Government and the States, or on the distribution of power and responsibilities among the various levels of government. Accordingly, we conclude that the rule does not contain policies that have federalism implications as defined in the Executive Order and, consequently, a federalism summary impact statement is not required.

IX. Consultation and Coordination With Indian Tribal Governments

We have analyzed this proposed rule in accordance with the principles set forth in Executive Order 13175, “Consultation and Coordination with Indian Tribal” (65 FR 67249, November 9, 2000). We have tentatively determined that the rule does not contain policies that would have a substantial direct effect on one or more Indian Tribes, on the relationship between the Federal Government and Indian Tribes, or on the distribution of power and responsibilities between the Federal Government and Indian Tribes. We invite comments from tribal officials on any potential impact on Indian Tribes from this proposed action.

List of Subjects

21 CFR Part 131

Dairy products, Food grades and standards, Milk.

21 CFR Part 133

Dairy products, Food grades and standards, Food labeling.

21 CFR Part 135

Food grades and standards, Food labeling, Frozen foods, Ice cream.

21 CFR Part 184

Food additives.

Therefore, under the Federal Food, Drug, and Cosmetic Act, we propose that 21 CFR parts 131, 133, 135, and 184 be amended as follows:

PART 131—MILK AND CREAM

1. The authority citation for part 131 continues to read as follows:

Authority: 21 U.S.C. 321, 341, 343, 348, 371, 379e.

§ § 131.111 and 131.162 [Removed]

2. Sections 131.111 and 131.162 are removed.

PART 133—CHEESES AND RELATED CHEESE PRODUCTS

3. The authority citation for part 133 continues to read as follows:

Authority: 21 U.S.C. 321, 341, 343, 348, 371, 379e.

§ § 133.111, 133.116, 133.121, 133.125, 133.127, 133.134, 133.140, 133.154, 133.164, 133.168, 133.170, 133.174, 133.185, and 133.186 [Removed]

4. Sections 133.111, 133.116, 133.121, 133.125, 133.127, 133.134, 133.140, 133.154, 133.164, 133.168, 133.170, 133.174, 133.185, and 133.186 are removed.

PART 135—FROZEN DESSERTS

5. The authority citation for part 135 continues to read as follows:

Authority: 21 U.S.C. 321, 341, 343, 348, 371, 379e.

§ § 135.115 and 135.130 [Removed]

6. Sections 135.115 and 135.130 are removed.

PART 184—DIRECT FOOD SUBSTANCES AFFIRMED AS GENERALLY RECOGNIZED AS SAFE

7. The authority citation for part 184 continues to read as follows:

Authority: 21 U.S.C. 321, 342, 348, and 371.

§ 184.1157 [Amended]

8. Section 184.1157 is amended by revising paragraph (c)(2) to read as follows:

§ 184.1157 Benzoyl peroxide.

* * * * *

(c) * * *

(2) The ingredient is used in the following foods at levels not to exceed current good manufacturing practice: flour; milk used for production of Asiago fresh and Asiago soft cheese (§ 133.102), Asiago medium cheese (§ 133.103), Asiago old cheese (§ 133.104), Blue cheese (§ 133.106), Gorgonzola cheese (§ 133.141), Parmesan and reggiano cheese (§ 133.165), Provolone cheese (§ 133.181), Romano cheese (§ 133.183), and Swiss and emmentaler cheese (§ 133.195) in part 133 of this chapter; and annatto-colored whey, such that the final bleached product conforms to the descriptions and specifications for whey, concentrated whey, or dried whey in § 184.1979(a)(1), (2), or (3), respectively.

* * * * *

Robert F. Kennedy, Jr.,
Secretary, Department of Health and Human Services.

[FR Doc. 2025-13424 Filed 7-16-25; 8:45 am]

BILLING CODE 4164-01-P